DEPARTMENT OF AGRICULTURE

Animal and Plant Health Inspection Service

[Docket No. 03-112-3]

Vaccination of Wild Bison; Confirmation of Finding of No Significant Impact

AGENCY: Animal and Plant Health Inspection Service, USDA.

ACTION: Notice.

SUMMARY: We are confirming our finding that the assistance of the Animal and Plant Health Inspection Service in the subcutaneous vaccination of wild, free-ranging bison in the Greater Yellowstone Area with Strain RB51 vaccine to help prevent the spread of brucellosis will not have a significant impact on the quality of the human environment. Additionally, we are advising the public of the availability of our discussion of issues raised by the public in response to an environmental assessment regarding that vaccination and the finding of no significant impact.

ADDRESSES: To obtain copies of the environmental assessment, finding of no significant impact, and our discussion of comments received, contact the National Center for Animal Health Programs, Veterinary Services, APHIS, 4700 River Road Unit 43, Riverdale, MD 20737-1231; (301) 734-4923. The documents are also available on the Internet at http://www.aphis.usda.gov/ppd/es/vsdocs.html. At that Web site page, click on the link for “Subcutaneous Vaccination of Wild, Free-ranging Bison in the Greater Yellowstone Area, Environmental Assessment, November 2003.”

You may also read the environmental assessment, finding of no significant impact, and comments received and our discussion of those comments in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Arnold Gertonson, Yellowstone Brucellosis Coordinator, National Center for Animal Health Programs, VS, APHIS, Building B MSC 3E13, 2150 Centre Avenue, Fort Collins, CO 80526-8117; (970) 494-7363.

SUPPLEMENTARY INFORMATION:

Background

Brucellosis is a contagious disease caused by Brucella bacteria. It can infect cattle, bison, elk, other animals, and humans. In cattle, bison, and elk, the specific disease organism is Brucella abortus. In infected cattle and bison, the disease organism localizes in lymph nodes, reproductive organs, and/or the udder, causing abortion in females and systemic effects in both males and females. Brucellosis is transmitted through contaminated and untreated milk and milk products and through direct contact with an infected aborted fetus or calf, afterbirth, or other reproductive tract discharges.

Brucellosis is considered one of the most serious diseases of livestock. While its hallmark symptom is abortion, brucellosis can also result in decreased milk production, weight loss in animals, infertility, and lameness. The Animal and Plant Health Inspection Service (APHIS) has worked for years to eliminate this disease from the United States.

The only known reservoir of Brucella abortus in the United States occurs in wild, free-ranging populations of bison and elk in the Greater Yellowstone Area (GYA), which comprises areas of Idaho, Montana, and Wyoming. The significance of wildlife in the GYA as a reservoir of brucellosis and potential source of infection for cattle in the GYA has been widely recognized. Additionally, free-ranging bison herds in the GYA are a natural resource of great importance.

To address the issue of brucellosis in the GYA, the U.S. Department of the Interior's National Park Service, the State of Montana, and their cooperators (including the U.S. Department of Agriculture) developed an Interagency Bison Management Plan for the bison herd in Yellowstone National Park (YNP). One of the disease management requirements of the plan is for eligible bison to be vaccinated against brucellosis. The Montana Department of Livestock (MDOL) has requested APHIS's assistance with the vaccination against brucellosis of wild, free-ranging bison calves and non-pregnant yearlings that leave YNP and migrate onto State, private, or other Federal lands.

On December 5, 2003, we published in the Federal Register (68 FR 68020-68021, Docket No. 03-112-1) a notice in which we announced the availability, for public review and comment, of an environmental assessment (EA) examining the potential environmental effects of APHIS's involvement in the vaccination described above. Additionally, we announced the availability of a finding of no significant impact (FONSI) in which we set forth our determination that subcutaneous vaccination of free-ranging bison of the GYA with Strain RB51 vaccine would not significantly impact human health or the environment.

In the notice of availability, we solicited comments on the EA and FONSI for 30 days ending on January 5, 2004. On January 14, 2004, we published a notice in the Federal Register (69 FR 2110, Docket No. 03-112-2) in which we reopened the comment period and extended it until January 20, 2004. We received a total of 143 comments by January 20, 2004.

The commenters addressed a wide range of issues, including:

• Whether the EA met the procedural requirements of the National Environmental Policy Act of 1969 (NEPA). Some commenters expressed the view that APHIS's release of a FONSI before the public had a chance to comment on the EA constituted a violation of NEPA. Others questioned whether the EA contained all of the elements required of an EA under NEPA.

• Which alternative presented in the EA should be adopted

• Whether bison are affected by brucellosis and whether there have been any reported cases of free-ranging bison transmitting the disease to cattle.

• The natural role of brucellosis in the environment.

• Issues regarding the potential impacts of vaccination on bison and nontarget species, including the efficacy and safety of the Strain RB51 vaccine, the potential for stress-related maladies in bison because of vaccination, and potential erosion of the wild nature of the YNP bison herd due to handling during the vaccination process.

• Whether the EA addressed the concerns of Native Americans.

• Requests that APHIS conduct an economic analysis to assess the costs and benefits of a vaccination program and the potential effects on the local economy.

We have reviewed and considered all issues raised by the commenters. Based on that review, we are confirming our determination that APHIS' assistance with the vaccination will not significantly impact human health or the environment. We are also making available to the public our discussion of all issues raised by the commenters in a document titled “Analysis of Comments Received on Subcutaneous Vaccination of Wild, Free-Ranging Bison in the Greater Yellowstone Area, Environmental Assessment/FONSI.” Instructions for viewing that document, the EA, and the FONSI are included under the heading ADDRESSES at the beginning of this notice.

Done in Washington, DC, this 26th day of March 2004.
Kevin Shea,
Acting Administrator, Animal and Plant Health Inspection Service.

[FR Doc. 04-7309 Filed 3-31-04; 8:45 am]

BILLING CODE 3410-34-P